DEPARTMENT OF ENERGY

Federal Energy Regulatory Commission

Combined Notice of Filings #1

Take notice that the Commission received the following electric corporate filings:

Docket Numbers: EC16-112-000.

Applicants: West Valley Power, LLC.

Description: Application of West Valley Power, LLC for Authorization Under Section 203 of the Federal Power Act and Request for Expedited Action.

Filed Date: 4/29/16.

Accession Number: 20160429-5536.

Comments Due: 5 p.m. ET 5/20/16.

Docket Numbers: EC16-113-000.

Applicants: PacifiCorp.

Description: Application of PacifiCorp for Approval of Acquisition of under Jurisdictional Assets pursuant to Section 203 of Federal Power Act.

Filed Date: 4/29/16.

Accession Number: 20160429-5546.

Comments Due: 5 p.m. ET 5/20/16.

Take notice that the Commission received the following exempt wholesale generator filings:

Docket Numbers: EG16-89-000.

Applicants: Elevation Solar C LLC.

Description: Self-Certification of Exempt Wholesale Generator Status of Elevation Solar C LLC.

Filed Date: 4/28/16.

Accession Number: 20160428-5454.

Comments Due: 5 p.m. ET 5/19/16.

Take notice that the Commission received the following electric rate filings:

Docket Numbers: ER16-1549-000.

Applicants: Pacific Gas and Electric Company.

Description: Section 205(d) Rate Filing: Quarterly Filing of City and County of San Francisco's WDT SA 275 for Q1 2016 to be effective 3/31/2016.

Filed Date: 4/29/16.

Accession Number: 20160429-5468.

Comments Due: 5 p.m. ET 5/20/16.

Docket Numbers: ER16-1550-000.

Applicants: Southwest Power Pool, Inc.

Description: Section 205(d) Rate Filing: 3060 SWEPCO and Tex-La Electric Interconnection Agreement to be effective 4/20/2016.

Filed Date: 5/2/16.

Accession Number: 20160502-5106.

Comments Due: 5 p.m. ET 5/23/16

Docket Numbers: ER16-1551-000.

Applicants: Southwest Power Pool, Inc.

Description: Section 205(d) Rate Filing: 2142R2 Golden Spread Electric Cooperative, Inc. NITSA NOA to be effective 4/1/2016.

Filed Date: 5/2/16.

Accession Number: 20160502-5107.

Comments Due: 5 p.m. ET 5/23/16.

Docket Numbers: ER16-1552-000.

Applicants: Ameren Illinois Company, Midcontinent Independent System Operator, Inc.

Description: Section 205(d) Rate Filing: 2016-05-02_SA 2917 Ameren Illinois-Prairie Power CA (Yantisville) to be effective 4/5/2016.

Filed Date: 5/2/16.

Accession Number: 20160502-5111.

Comments Due: 5 p.m. ET 5/23/16.

Docket Numbers: ER16-1553-000.

Applicants: Atlantic City Electric Company.

Description: Compliance filing: Exelon MBR Entities Omnibus Tariff Updates to be effective 5/3/2016.

Filed Date: 5/2/16.

Accession Number: 20160502-5140.

Comments Due: 5 p.m. ET 5/23/16.

Docket Numbers: ER16-1554-000.

Applicants: AV Solar Ranch 1, LLC.

Description: Compliance filing: Exelon MBR Entities Omnibus Tariff Updates to be effective 5/3/2016.

Filed Date: 5/2/16.

Accession Number: 20160502-5141.

Comments Due: 5 p.m. ET 5/23/16.

Docket Numbers: ER16-1555-000.

Applicants: Baltimore Gas and Electric Company.

Description: Compliance filing: Exelon MBR Entities Omnibus Tariff Updates to be effective 5/3/2016.

Filed Date: 5/2/16.

Accession Number: 20160502-5142.

Comments Due: 5 p.m. ET 5/23/16.

Docket Numbers: ER16-1556-000.

Applicants: Beebe 1B Renewable Energy, LLC.

Description: Compliance filing: Exelon MBR Entities Omnibus Tariff Updates to be effective 5/3/2016.

Filed Date: 5/2/16.

Accession Number: 20160502-5143.

Comments Due: 5 p.m. ET 5/23/16.

Docket Numbers: ER16-1557-000.

Applicants: Beebe Renewable Energy, LLC.

Description: Compliance filing: Exelon MBR Entities Omnibus Tariff Updates to be effective 5/3/2016.

Filed Date: 5/2/16.

Accession Number: 20160502-5144.

Comments Due: 5 p.m. ET 5/23/16.

Docket Numbers: ER16-1558-000.

Applicants: Bethlehem Renewable Energy, LLC.

Description: Compliance filing: Exelon MBR Entities Omnibus Tariff Updates to be effective 5/3/2016.

Filed Date: 5/2/16.

Accession Number: 20160502-5145.

Comments Due: 5 p.m. ET 5/23/16.

Docket Numbers: ER16-1559-000.

Applicants: Calvert Cliffs Nuclear Power Plant, LLC.

Description: Compliance filing: Exelon MBR Entities Omnibus Tariff Updates to be effective 5/3/2016.

Filed Date: 5/2/16.

Accession Number: 20160502-5146.

Comments Due: 5 p.m. ET 5/23/16.

Docket Numbers: ER16-1560-000.

Applicants: Cassia Gulch Wind Park, LLC.

Description: Compliance filing: Exelon MBR Entities Omnibus Tariff Updates to be effective 5/3/2016.

Filed Date: 5/2/16.

Accession Number: 20160502-5147.

Comments Due: 5 p.m. ET 5/23/16.

Docket Numbers: ER16-1561-000.

Applicants: Continuum Retail Energy Services, L.L.C.

Description: Notice of Cancellation of Market-Based Rate Tariff of Continuum Retail Energy Services, L.L.C.

Filed Date: 4/29/16.

Accession Number: 20160429-5540.

Comments Due: 5 p.m. ET 5/20/16.

Docket Numbers: ER16-1562-000.

Applicants: CER Generation, LLC.

Description: Compliance filing: Exelon MBR Entities Omnibus Tariff Updates to be effective 5/3/2016.

Filed Date: 5/2/16.

Accession Number: 20160502-5148.

Comments Due: 5 p.m. ET 5/23/16.

Docket Numbers: ER16-1563-000.

Applicants: Commonwealth Edison Company.

Description: Compliance filing: Exelon MBR Entities Omnibus Tariff Updates to be effective 5/3/2016.

Filed Date: 5/2/16.

Accession Number: 20160502-5149.

Comments Due: 5 p.m. ET 5/23/16.

Docket Numbers: ER16-1564-000.

Applicants: The AES Corporation.

Description: Election for Review and Authorization of The AES Corporation pursuant to Section 1275 of the Energy Policy Act of 2015.

Filed Date: 4/29/16.

Accession Number: 20160429-5541.

Comments Due: 5 p.m. ET 5/20/16.

Docket Numbers: ER16-1565-000.

Applicants: Constellation Energy Commodities Group Maine, LLC.

Description: Compliance filing: Exelon MBR Entities Omnibus Tariff Updates to be effective 5/3/2016.

Filed Date: 5/2/16.

Accession Number: 20160502-5151.

Comments Due: 5 p.m. ET 5/23/16.

Docket Numbers: ER16-1566-000.

Applicants: Constellation Energy Services, Inc.

Description: Compliance filing: Exelon MBR Entities Omnibus Tariff Updates to be effective 5/3/2016.

Filed Date: 5/2/16.

Accession Number: 20160502-5152.

Comments Due: 5 p.m. ET 5/23/16.

Docket Numbers: ER16-1567-000.

Applicants: Constellation Energy Services of New York.

Description: Compliance filing: Exelon MBR Entities Omnibus Tariff Updates to be effective 5/3/2016.

Filed Date: 5/2/16.

Accession Number: 20160502-5153.

Comments Due: 5 p.m. ET 5/23/16.

Docket Numbers: ER16-1568-000.

Applicants: Constellation Mystic Power, LLC.

Description: Compliance filing: Exelon MBR Entities Omnibus Tariff Updates to be effective 5/3/2016.

Filed Date: 5/2/16.

Accession Number: 20160502-5157.

Comments Due: 5 p.m. ET 5/23/16.

Docket Numbers: ER16-1569-000.

Applicants: Constellation NewEnergy, Inc.

Description: Compliance filing: Exelon MBR Entities Omnibus Tariff Updates to be effective 5/3/2016.

Filed Date: 5/2/16.

Accession Number: 20160502-5159.

Comments Due: 5 p.m. ET 5/23/16.

Docket Numbers: ER16-1570-000.

Applicants: Constellation Power Source Generation, LLC.

Description: Compliance filing: Exelon MBR Entities Omnibus Tariff Updates to be effective 5/3/2016.

Filed Date: 5/2/16.

Accession Number: 20160502-5160.

Comments Due: 5 p.m. ET 5/23/16.

Docket Numbers: ER16-1571-000.

Applicants: Cow Branch Wind Power, LLC.

Description: Compliance filing: Exelon MBR Entities Omnibus Tariff Updates to be effective 5/3/2016.

Filed Date: 5/2/16.

Accession Number: 20160502-5162.

Comments Due: 5 p.m. ET 5/23/16.

Docket Numbers: ER16-1572-000.

Applicants: CR Clearing, LLC.

Description: Compliance filing: Exelon MBR Entities Omnibus Tariff Updates to be effective 5/3/2016.

Filed Date: 5/2/16.

Accession Number: 20160502-5164.

Comments Due: 5 p.m. ET 5/23/16.

Docket Numbers: ER16-1573-000.

Description: Notice of Cancellation market-based rate tariff of California Clean Power Corp.

Filed Date: 4/29/16.

Accession Number: 20160429-5545.

Comments Due: 5 p.m. ET 5/20/16.

Docket Numbers: ER16-1574-000.

Applicants: Criterion Power Partners, LLC.

Description: Compliance filing: Exelon MBR Entities Omnibus Tariff Updates to be effective 5/3/2016.

Filed Date: 5/2/16.

Accession Number: 20160502-5167.

Comments Due: 5 p.m. ET 5/23/16.

Docket Numbers: ER16-1575-000.

Applicants: Eastern Landfill Gas, LLC.

Description: Compliance filing: Exelon MBR Entities Omnibus Tariff Updates to be effective 5/3/2016.

Filed Date: 5/2/16.

Accession Number: 20160502-5170.

Comments Due: 5 p.m. ET 5/23/16.

Docket Numbers: ER16-1576-000.

Applicants: Exelon Framingham, LLC.

Description: Compliance filing: Exelon MBR Entities Omnibus Tariff Updates to be effective 5/3/2016.

Filed Date: 5/2/16.

Accession Number: 20160502-5172.

Comments Due: 5 p.m. ET 5/23/16.

Docket Numbers: ER16-1577-000.

Applicants: Midcontinent Independent System Operator, Inc.

Description: Section 205(d) Rate Filing: 2016-05-02 Emergency Pricing True-Up to be effective 7/1/2016.

Filed Date: 5/2/16.

Accession Number: 20160502-5173.

Comments Due: 5 p.m. ET 5/23/16.

Docket Numbers: ER16-1578-000.

Applicants: Delmarva Power & Light Company.

Description: Compliance filing: Exelon MBR Entities Omnibus Tariff Updates to be effective 5/3/2016.

Filed Date: 5/2/16.

Accession Number: 20160502-5175.

Comments Due: 5 p.m. ET 5/23/16.

Docket Numbers: ER16-1579-000.

Applicants: Exelon Generation Company, LLC.

Description: Compliance filing: Exelon MBR Entities Omnibus Tariff Updates to be effective 5/3/2016.

Filed Date: 5/2/16.

Accession Number: 20160502-5176.

Comments Due: 5 p.m. ET 5/23/16.

Docket Numbers: ER16-1580-000.

Applicants: Potomac Electric Power Company.

Description: Compliance filing: Exelon MBR Entities Omnibus Tariff Updates to be effective 5/3/2016.

Filed Date: 5/2/16.

Accession Number: 20160502-5177.

Comments Due: 5 p.m. ET 5/23/16.

Docket Numbers: ER16-1581-000.

Applicants: Exelon New Boston, LLC.

Description: Compliance filing: Exelon MBR Entities Omnibus Tariff Updates to be effective 5/3/2016.

Filed Date: 5/2/16.

Accession Number: 20160502-5178.

Comments Due: 5 p.m. ET 5/23/16.

Docket Numbers: ER16-1582-000.

Applicants: Exelon West Medway, LLC.

Description: Compliance filing: Exelon MBR Entities Omnibus Tariff Updates to be effective 5/3/2016.

Filed Date: 5/2/16.

Accession Number: 20160502-5179.

Comments Due: 5 p.m. ET 5/23/16.

Docket Numbers: ER16-1583-000.

Applicants: Exelon Wind 4, LLC.

Description: Compliance filing: Exelon MBR Entities Omnibus Tariff Updates to be effective 5/3/2016.

Filed Date: 5/2/16.

Accession Number: 20160502-5180.

Comments Due: 5 p.m. ET 5/23/16.

Docket Numbers: ER16-1584-000.

Applicants: Exelon Wyman, LLC.

Description: Compliance filing: Exelon MBR Entities Omnibus Tariff Updates to be effective 5/3/2016.

Filed Date: 5/2/16.

Accession Number: 20160502-5198.

Comments Due: 5 p.m. ET 5/23/16.

Docket Numbers: ER16-1585-000.

Applicants: Fair Wind Power Partners, LLC.

Description: Compliance filing: Exelon MBR Entities Omnibus Tariff Updates to be effective 5/3/2016.

Filed Date: 5/2/16.

Accession Number: 20160502-5182.

Comments Due: 5 p.m. ET 5/23/16.

Docket Numbers: ER16-1586-000.

Applicants: Fourmile Wind Energy, LLC.

Description: Compliance filing: Exelon MBR Entities Omnibus Tariff Updates to be effective 5/3/2016.

Filed Date: 5/2/16.

Accession Number: 20160502-5199.

Comments Due: 5 p.m. ET 5/23/16.

Docket Numbers: ER16-1587-000.

Applicants: Handsome Lake Energy, LLC.

Description: Compliance filing: Exelon MBR Entities Omnibus Tariff Updates to be effective 5/3/2016.

Filed Date: 5/2/16.

Accession Number: 20160502-5201.

Comments Due: 5 p.m. ET 5/23/16.

Docket Numbers: ER16-1588-000.

Applicants: Harvest II Windfarm, LLC.

Description: Compliance filing: Exelon MBR Entities Omnibus Tariff Updates to be effective 5/3/2016.

Filed Date: 5/2/16.

Accession Number: 20160502-5202.

Comments Due: 5 p.m. ET 5/23/16.

Docket Numbers: ER16-1589-000.

Applicants: Harvest Windfarm, LLC.

Description: Compliance filing: Exelon MBR Entities Omnibus Tariff Updates to be effective 5/3/2016.

Filed Date: 5/2/16.

Accession Number: 20160502-5203.

Comments Due: 5 p.m. ET 5/23/16.

Docket Numbers: ER16-1590-000.

Applicants: High Mesa Energy, LLC.

Description: Compliance filing: Exelon MBR Entities Omnibus Tariff Updates to be effective 5/3/2016.

Filed Date: 5/2/16.

Accession Number: 20160502-5206.

Comments Due: 5 p.m. ET 5/23/16.

Docket Numbers: ER16-1591-000.

Applicants: Michigan Wind 1, LLC.

Description: Compliance filing: Exelon MBR Entities Omnibus Tariff Updates to be effective 5/3/2016.

Filed Date: 5/2/16.

Accession Number: 20160502-5207.

Comments Due: 5 p.m. ET 5/23/16.

Docket Numbers: ER16-1592-000.

Applicants: Michigan Wind 2, LLC.

Description: Compliance filing: Exelon MBR Entities Omnibus Tariff Updates to be effective 5/3/2016.

Filed Date: 5/2/16.

Accession Number: 20160502-5209.

Comments Due: 5 p.m. ET 5/23/16.

Docket Numbers: ER16-1593-000.

Applicants: Public Service Company of Colorado.

Description: Section 205(d) Rate Filing: PSCo-TSGT-WAPA Concur Montrose Sub 438 to be effective 7/2/2016.

Filed Date: 5/2/16.

Accession Number: 20160502-5211.

Comments Due: 5 p.m. ET 5/23/16.

Docket Numbers: ER16-1594-000.

Applicants: Nine Mile Point Nuclear Station, LLC.

Description: Compliance filing: Exelon MBR Entities Omnibus Tariff Updates to be effective 5/3/2016.

Filed Date: 5/2/16.

Accession Number: 20160502-5212.

Comments Due: 5 p.m. ET 5/23/16.

Docket Numbers: ER16-1595-000.

Applicants: PECO Energy Company.

Description: Compliance filing: Exelon MBR Entities Omnibus Tariff Updates to be effective 5/3/2016.

Filed Date: 5/2/16.

Accession Number: 20160502-5215.

Comments Due: 5 p.m. ET 5/23/16.

Docket Numbers: ER16-1596-000.

Applicants: Pepco Energy Services, Inc.

Description: Compliance filing: Exelon MBR Entities Omnibus Tariff Updates to be effective 5/3/2016.

Filed Date: 5/2/16.

Accession Number: 20160502-5221.

Comments Due: 5 p.m. ET 5/23/16.

Docket Numbers: ER16-1597-000.

Applicants: R.E. Ginna Nuclear Power Plant, LLC.

Description: Compliance filing: Exelon MBR Entities Omnibus Tariff Updates to be effective 5/3/2016.

Filed Date: 5/2/16.

Accession Number: 20160502-5229.

Comments Due: 5 p.m. ET 5/23/16.

Docket Numbers: ER16-1598-000.

Applicants: Shooting Star Wind Project, LLC.

Description: Compliance filing: Exelon MBR Entities Omnibus Tariff Updates to be effective 5/3/2016.

Filed Date: 5/2/16.

Accession Number: 20160502-5230.

Comments Due: 5 p.m. ET 5/23/16.

Docket Numbers: ER16-1599-000.

Applicants: Tuana Springs Energy, LLC.

Description: Compliance filing: Exelon MBR Entities Omnibus Tariff Updates to be effective 5/3/2016.

Filed Date: 5/2/16.

Accession Number: 20160502-5232.

Comments Due: 5 p.m. ET 5/23/16.

Docket Numbers: ER16-1600-000.

Applicants: Southwest Power Pool, Inc.

Description: Section 205(d) Rate Filing: 3189 Basin Electric and Northern States Power Attachment AO to be effective 4/1/2016.

Filed Date: 5/2/16.

Accession Number: 20160502-5234.

Comments Due: 5 p.m. ET 5/23/16.

Docket Numbers: ER16-1601-000.

Applicants: Wildcat Wind, LLC.

Description: Compliance filing: Exelon MBR Entities Omnibus Tariff Updates to be effective 5/3/2016.

Filed Date: 5/2/16.

Accession Number: 20160502-5239.

Comments Due: 5 p.m. ET 5/23/16.

Docket Numbers: ER16-1602-000.

Applicants: Wind Capital Holdings, LLC.

Description: Compliance filing: Exelon MBR Entities Omnibus Tariff Updates to be effective 5/3/2016.

Filed Date: 5/2/16.

Accession Number: 20160502-5241.

Comments Due: 5 p.m. ET 5/23/16.

Take notice that the Commission received the following electric securities filings:

Docket Numbers: ES16-30-000.

Applicants: El Paso Electric Company.

Description: Application for Renewal of Section 204 Authorization of El Paso Electric Company.

Filed Date: 4/29/16.

Accession Number: 20160429-5538.

Comments Due: 5 p.m. ET 5/20/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2016.
Nathaniel J. Davis, Sr.,
Deputy Secretary.

[FR Doc. 2016-10767 Filed 5-6-16; 8:45 am]

BILLING CODE 6717-01-P